DEPARTMENT OF HOMELAND SECURITY

Federal Emergency Management Agency

[Docket ID: FEMA-2015-0016; OMB No. 1660-0131]

Agency Information Collection Activities: Proposed Collection; Comment Request; Threat and Hazard Identification and Risk Assessment—State Preparedness Report Unified Reporting Tool

AGENCY: Federal Emergency Management Agency, DHS.

ACTION: Notice.

SUMMARY: The Federal Emergency Management Agency, as part of its continuing effort to reduce paperwork and respondent burden, invites the general public and other Federal agencies to take this opportunity to comment on a revision of a currently approved information collection. In accordance with the Paperwork Reduction Act of 1995, this notice seeks comments concerning the Threat and Hazard Identification and Risk Assessment (THIRA)—State Preparedness Report (SPR) Unified Reporting Tool.

DATES: Comments must be submitted on or before July 28, 2015.

ADDRESSES: To avoid duplicate submissions to the docket, please use only one of the following means to submit comments:

(1) Online. Submit comments at www.regulations.gov under Docket ID FEMA-2015-0016. Follow the instructions for submitting comments.

(2) Mail. Submit written comments to Docket Manager, Office of Chief Counsel, DHS/FEMA, 500 C Street SW., 8NE, Washington, DC 20472-3100.

All submissions received must include the agency name and Docket ID. Regardless of the method used for submitting comments or material, all submissions will be posted, without change, to the Federal eRulemaking Portal at http://www.regulations.gov, and will include any personal information you provide. Therefore, submitting this information makes it public. You may wish to read the Privacy Act notice that is available via the link in the footer of www.regulations.gov.

FOR FURTHER INFORMATION CONTACT: Leiloni Stainsby, Section Chief—Assessments Branch, FEMA, National Preparedness Assessment Division, at 202-786-9737. You may contact the Records Management Division for copies of the proposed collection of information at email address: FEMA-Information-Collections-Management@fema.dhs.gov.

SUPPLEMENTARY INFORMATION: This package is a revision to the collection originally approved as the State Preparedness Report, OMB Control Number: 1660-0131. FEMA is updating the name of this collection from “State Preparedness Report” to the “Threat and Hazard Identification and Risk Assessment (THIRA)—State Preparedness Report (SPR) Unified Reporting Tool” to reflect more accurately the information and method of collection. The Post-Katrina Emergency Management Reform Act of 2006 (PKEMRA), as amended by the Implementing Recommendations of the 9/11 Commission Act of 2007, established an annual requirement for the 56 States and territories to submit a State Preparedness Report (SPR).

PKEMRA requires a report on current capability levels and a description of targeted capability levels from all States and territories receiving non-disaster preparedness grant funds administered by the Department of Homeland Security. Each report must also include a discussion of the extent to which target capabilities identified in the applicable State homeland security plan and other applicable plans are unmet, and an assessment of resources needed to meet the preparedness priorities established under PKEMRA Section 646(e), including: (i) An estimate of the amount of expenditures required to attain the preparedness priorities; and (ii) the extent to which the use of Federal assistance during the preceding fiscal year achieved the preparedness priorities. To meet this requirement, States and territories first identify capability targets through the Threat and Hazard Identification and Risk Assessment (THIRA) and then assess against these targets in the SPR. It is also important to note that the only allowable expenses under the grant awards are for completing the THIRA/SPR and THIRA.

FEMA holds annual after-action calls every January. All state and local jurisdictions that complete the THIRA/SPR are invited to participate and provide feedback on the collection process. FEMA uses this after-action process to gather feedback on the utility of the information and on how the burden can be further reduced. Participation in these calls is voluntary. FEMA estimates that the time it takes to participate in and respond to the THIRA/SPR After Action Conference Calls is one hour per respondent for a total of 123 hours.

Collection of Information

Title: Threat and Hazard Identification and Risk Assessment (THIRA)—State Preparedness Report (SPR) Unified Reporting Tool.

Type of Information Collection: Revision of a currently approved information collection.

OMB Number: 1660-0131.

FEMA Forms: FEMA Form 008-0-19, THIRA-SPR Unified Reporting Tool; FEMA Form 008-0-20, THIRA-SPR Unified Reporting Tool; FEMA Form 008-0-23, THIRA/SPR After Action Conference Calls.

Abstract: This package is a revision to the collection originally approved as the State Preparedness Report. The revised name more accurately reflects exactly what information is collected and how. It serves as a report on the current capability levels and a description of targeted capability levels from all states and territories receiving Federal preparedness assistance administered by the Department of Homeland Security.

Affected Public: State, Local or Tribal Government.

Number of Respondents: 123.

Number of Responses: 123.

Estimated Total Annual Burden Hours: 71,363 hours.

Estimated Annualized Burden Hours and Costs
Type of respondent | Form name/form number | Number of respondents | Number of responses per respondent | Total number of responses | Average burden per response (in hours) | Total annual burden (in hours) | Average hourly wage rate | Total annual respondent cost
(Urban Areas) or Tribal Government | THIRA/FEMA Form 008-0-19 | 67 | 1 | 67 | 408 hours | 27,336 | $45.33 | $1,239,140.88
State or Territory | SPR-THIRA/FEMA Form 008-0-20 | 56 | 1 | 56 | 784 hours | 43,904 | 45.33 | 1,990,168.32
THIRA/SPR After Action Conference Call | FEMA Form 008-0-23 | 123 (same as the participants above, no additional participants) | 1 | 123 (same as the participants above, no additional participants) | 1 | 123 |  |
Total |  | 123 |  | 123 |  | 71,363 |  | 3,234,884.79
• Note: The “Avg. Hourly Wage Rate” for each respondent includes a 1.4 multiplier to reflect a fully-loaded wage rate.

Estimated Cost: The estimated annual cost to respondents for the hour burden is $3,234,884.79. The estimated annual cost to respondents operations and maintenance costs for technical services is $10,833,275. There are no annual start-up or capital costs. The cost to the Federal Government is $2,154,074.

Comments

Comments may be submitted as indicated in the ADDRESSES caption above. Comments are solicited to: (a) Evaluate whether the proposed data collection is necessary for the proper performance of the agency, including whether the information shall have practical utility; (b) evaluate the accuracy of the agency's estimate of the burden of the proposed collection of information, including the validity of the methodology and assumptions used; (c) enhance the quality, utility, and clarity of the information to be collected; and (d) minimize the burden of the collection of information on those who are to respond, including through the use of appropriate automated, electronic, mechanical, or other technological collection techniques or other forms of information technology, e.g., permitting electronic submission of responses.

Dated: May 26, 2015.
Janice Waller,
Acting Director, Records Management Division, Mission Support Bureau, Federal Emergency Management Agency, Department of Homeland Security.

[FR Doc. 2015-13020 Filed 5-28-15; 8:45 am]

BILLING CODE 9111-46-P